DEPARTMENT OF DEFENSE

Department of the Navy

Notice of Intent To Grant Exclusive Patent License; C&C Ventures, Doing Business as Randolph Products

AGENCY: Department of the Navy, DoD.

ACTION: Notice.

SUMMARY: The Department of the Navy hereby gives notice of its intent to grant to C&C Ventures, doing business as Randolph Products, a revocable, nonassignable, exclusive license to practice in the fields of use of polyurethane coatings, method of making polyurethane coatings and resins in the United States, the Government-owned inventions described in U.S. Patent No. 7,432,399: Diols Formed by Ring-Opening of Epoxies, Navy Case No. 084,472.//U.S. Patent No. 7,615,604: Diols Formed by Ring-Opening of Epoxies, Navy Case No. 084,472.//U.S. Patent 7,622,541: Polyurethane Coating, Navy Case No. 084,472 and any continuations, divisionals or re-issues thereof.

DATES: Anyone wishing to object to the grant of this license must file written objections along with supporting evidence, if any, not later than March 16, 2012.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR Part 404.

Dated: February 22, 2012.
J.M. Beal,
Lieutenant Commander, Office of the Judge Advocate General, U.S. Navy, Federal Register Liaison Officer.

[FR Doc. 2012-4952 Filed 2-29-12; 8:45 am]

BILLING CODE 3810-FF-P